DEPARTMENT OF COMMERCE

United States Patent and Trademark Office

Intellectual Property Education Outreach Council Survey

ACTION: Proposed collection; comment request.

SUMMARY: The United States Patent and Trademark Office (USPTO), as part of its continuing effort to reduce paperwork and respondent burden, invites the general public and other Federal agencies to comment on the proposed information collection as required by the Paperwork Reduction Act of 1995, Public Law 104-13 (44 U.S.C. 3506(c)(2)(A)).

DATES: Written comments must be submitted on or before June 27, 2016.

ADDRESSES: You may submit comments by any of the following methods:

• Email: InformationCollection@uspto.gov. Include “0651-00XX comment” in the subject line of the message.

• Federal Rulemaking Portal: http://www.regulations.gov.

• Mail: Marcie Lovett, Records Management Division Director, Office of the Chief Information Officer, United States Patent and Trademark Office, P.O. Box 1450, Alexandria, VA 22313-1450.

FOR FURTHER INFORMATION CONTACT: Requests for additional information should be directed to Anthony Knight, Director, Office of Stakeholder Outreach, United States Patent and Trademark Office, P.O. Box 1450, Alexandria, VA 22313-1450; by telephone at 571-272-3687; or by email to Anthony.Knight@uspto.gov with “0651-00XX comment” in the subject line. Additional information about this collection is also available at http://www.reginfo.gov under “Information Collection Review.”

SUPPLEMENTARY INFORMATION:

I. Abstract

The United States Patent and Trademark Office (USPTO) Intellectual Property Education Outreach Council is responsible for conducting training for parties external to the USPTO. The Council is conducting a new survey to gather public feedback regarding their satisfaction with USPTO lectures and other outreach efforts.

Collecting feedback will allow for the Agency to have a pulse on customer satisfaction and adjust where necessary to meet and exceed expectations. This feedback collection will provide for ongoing, collaborative, and actionable communication between the Agency and its customers and stakeholders. It also will enable the Agency to garner customer and stakeholder feedback in an efficient and timely manner, in accordance with the USPTO's commitment to improving services. The information collected from Agency customers and stakeholders will help ensure users have an opportunity to convey their experience with USPTO outreach efforts.

Improving Agency outreach efforts requires ongoing assessment. The Agency will collect, analyze, and interpret information gathered to identify strengths and weaknesses of current services. Based on feedback received, the Agency will identify changes needed to improve services. The Agency is committed to hearing feedback from its customers. If this information is not collected, then the Agency will miss opportunities to obtain vital feedback from its customers and stakeholders on ways to improve their program and services.

II. Method of Collection

Respondents can submit the information electronically by means of the internet, or in-person at the conclusion of a USPTO outreach event.

III. Data

OMB Number: 0651-00XX.

IC Instruments and Forms: There are no forms associated with this collection. The individual instruments in this collection are listed in the table below.

Type of Review: New.

Affected Public: Individuals or households, businesses or other for-profits; and not-for-profit institutions.

Estimated Number of Respondents: 10,000.

Estimated Time per Response: 5 minutes (.083 hours).

Estimated Total Annual Respondent Burden Hours: 833.33 hours.

Estimated Total Annual Respondent (Hourly) Cost Burden: $161,391.67. The USPTO expects that attorneys, paralegals and pro se applicants will complete these applications. The professional hourly rate for attorneys is $410, and the hourly rates for paralegals and pro se applicants are $141 and $30, respectively. The average of the combined respondent rate is $193.67. The time per response, estimated annual responses, and estimated annual burden associated with each instrument in this information collection is shown in the table below.

Number | Item | Estimated time for response (minutes) | Estimated annual responses | Estimated annual burden hours | Rate ($/hr)
|  | (a) | (b) | (a) × (b) / 60 = (c) |
1 | Survey | 5 (0.083 hrs) | 10,000 | 833.33 | $193.67
Total |  |  | 10,000 | 833.33 |

Estimated Total Annual (Non-hour) Respondent Cost Burden: There are no capital start-up, maintenance, postage, or recordkeeping costs associated with this information collection. Additionally, there are no filing fees associated with this collection.

IV. Request for Comments

Comments are invited on:

(a) Whether the proposed collection of information is necessary for the proper performance of the functions of the agency, including whether the information shall have practical utility;

(b) the accuracy of the agency's estimate of the burden (including hours and cost) of the proposed collection of information;

(c) ways to enhance the quality, utility, and clarity of the information to be collected; and

(d) ways to minimize the burden of the collection of information on respondents, e.g., the use of automated collection techniques or other forms of information technology.

Comments submitted in response to this notice will be summarized or included in the request for OMB approval of this information collection; they also will become a matter of public record.

Dated: April 21, 2016.
Marcie Lovett,
Records Management Division Director, OCIO, Office of the Chief Information Officer, United States Patent and Trademark Office.

[FR Doc. 2016-09808 Filed 4-26-16; 8:45 am]

BILLING CODE 3510-16-P